DEPARTMENT OF TRANSPORTATION

Federal Aviation Administration

14 CFR Part 39

[Docket No. FAA-2008-0407; Directorate Identifier 2008-NM-002-AD]

RIN 2120-AA64

Airworthiness Directives; McDonnell Douglas Model 717-200 Airplanes

AGENCY: Federal Aviation Administration (FAA), DOT.

ACTION: Notice of proposed rulemaking (NPRM).

SUMMARY: We propose to adopt a new airworthiness directive (AD) for certain McDonnell Douglas Model 717-200 airplanes. This proposed AD would require inspecting the drive assembly of the aft elevator standby loop for interference between the clevis and bolt of the bellcrank assembly, correct orientation of the pull-pull cable clevis bolt, and excessive freeplay of the bellcrank assembly bearing, and corrective actions if necessary. This proposed AD would also require modifying the pull-pull cable clevis in the drive assembly of the aft elevator standby loop for certain airplanes. This proposed AD results from a report of an aborted takeoff due to a control column disconnect. We are proposing this AD to prevent binding of the bolt that connects the cable 264A clevis to the bellcrank assembly against the adjacent (upper) clevis of the pull-pull cable assembly. This binding condition could result in slow airplane rotation or a control column disconnect during takeoff and a runway excursion if takeoff must be aborted.

DATES: We must receive comments on this proposed AD by May 22, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: David Rathfelder, Aerospace Engineer, Airframe Branch, ANM-120L, FAA, Los Angeles Aircraft Certification Office, 3960 Paramount Boulevard, Lakewood, California 90712-4137; telephone (562) 627-5229; fax (562) 627-5210.

SUPPLEMENTARY INFORMATION:

Comments Invited

We invite you to send any written relevant data, views, or arguments about this proposed AD. Send your comments to an address listed under the ADDRESSES section. Include “Docket No. FAA-2008-0407; Directorate Identifier 2008-NM-002-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received a report of an aborted takeoff due to a control column disconnect. A cable in the fuselage drive assembly of the aft elevator standby loop was in intermittent contact with the adjacent clevis. Investigation revealed that the bolt connecting the cable 264A clevis to the bellcrank assembly within the drive assembly of the aft elevator standby loop may bind against the adjacent upper clevis of the pull-pull cable assembly. Further investigation revealed that one of the bolts of the drive assembly of the aft elevator standby loop and pull-pull cable clevis might be installed “head up” adding to the potential binding condition. The “head up” installation is not in accordance with design requirements. In addition, the bellcrank bearing had excessive freeplay due to corrosion that contributed to the binding condition. This binding condition, if not corrected, could result in slow airplane rotation or a control column disconnect during takeoff and a runway excursion if takeoff must be aborted.

Relevant Service Information

We have reviewed Boeing Alert Service Bulletin 717-27A0039, dated December 6, 2007. The service bulletin describes procedures for a general visual inspection of the drive assembly of the aft elevator standby loop for interference between the clevis and bolt of the bellcrank assembly, correct orientation of the pull-pull cable clevis bolt, and excessive freeplay of the bellcrank assembly bearing, and corrective actions if necessary. The service bulletin also describes procedures for modifying the pull-pull cable clevis in the drive assembly of the aft elevator standby loop on certain airplanes. If any interference, incorrect orientation, or excessive freeplay is found, the corrective actions include rotating cable segment 264A, changing the bellcrank assembly bearing, and rotating the pull-pull cable clevis.

For Group 1, Configuration 1 and 2: The compliance time for performing the inspection is within 3,000 flight hours or 27 months after the service bulletin date, whichever occurs first. For Group 1, Configuration 1: The compliance time for accomplishing the modification is within 27 months after the service bulletin date.

FAA's Determination and Requirements of This Proposed AD

We are proposing this AD because we evaluated all relevant information and determined the unsafe condition described previously is likely to exist or develop in other products of the same type design. This proposed AD would require accomplishing the actions specified in the service information described previously.

Costs of Compliance

We estimate that this proposed AD would affect 123 airplanes of U.S. registry.

It would take about 1 work-hour per product to do the proposed inspection. The average labor rate is $80 per work-hour. Based on these figures, we estimate the cost of this proposed AD to the U.S. operators to be $9,840, or $80 per product.

It would take about 4 work-hours per product to do the proposed modification. Required parts would cost about $163 per product. Based on these figures, we estimate the cost of this proposed AD to the U.S. operators to be $59,409, or $483 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

McDonnell Douglas: Docket No. FAA-2008-0407; Directorate Identifier 2008-NM-002-AD.

Comments Due Date

(a) We must receive comments by May 22, 2008.

Affected ADs

(b) None.

Applicability

(c) This AD applies to McDonnell Douglas Model 717-200 airplanes, certificated in any category, as identified in Boeing Alert Service Bulletin 717-27A0039, dated December 6, 2007.

Unsafe Condition

(d) This AD results from a report of an aborted takeoff due to a control column disconnect. We are issuing this AD to prevent binding of the bolt that connects the cable 264A clevis to the bellcrank assembly against the adjacent (upper) clevis of the pull-pull cable assembly. This binding condition could result in slow airplane rotation or a control column disconnect during takeoff and a runway excursion if takeoff must be aborted.

Compliance

(e) Comply with this AD within the compliance times specified, unless already done.

Inspection/Corrective Actions

(f) At the applicable time specified in paragraph 1.E., “Compliance,” of Boeing Alert Service Bulletin 717-27A0039, dated December 6, 2007; except, where the service bulletin specifies a compliance time after the date on the service bulletin, this AD requires compliance within the specified compliance time after the effective date of this AD: Do the applicable actions specified in paragraphs (f)(1) and (f)(2) of this AD in accordance with the Accomplishment Instructions of the service bulletin.

(1) For all airplanes: Do a general visual inspection of the drive assembly of the aft elevator standby loop for interference between the clevis and bolt of the bellcrank assembly, correct orientation of the pull-pull cable clevis bolt, and excessive freeplay of the bellcrank assembly bearing. Do all applicable corrective actions before further flight.

(2) For airplanes identified in the service bulletin as Group 1, Configuration 1: Modify the pull-pull cable clevis in the drive assembly of the aft elevator standby loop.

Alternative Methods of Compliance (AMOCs)

(g)(1) The Manager, Los Angeles Aircraft Certification Office (ACO), FAA, ATTN: David Rathfelder, Aerospace Engineer, Airframe Branch, ANM-120L, FAA, Los Angeles ACO, 3960 Paramount Boulevard, Lakewood, California 90712-4137; telephone (562) 627-5229; fax (562) 627-5210; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on March 28, 2008.
Ali Bahrami,
Manager, Transport Airplane Directorate, Aircraft Certification Service.

[FR Doc. E8-7183 Filed 4-4-08; 8:45 am]

BILLING CODE 4910-13-P